DEPARTMENT OF HEALTH AND HUMAN SERVICES

Centers for Disease Control and Prevention

[30Day-24-1074]

Agency Forms Undergoing Paperwork Reduction Act Review

In accordance with the Paperwork Reduction Act of 1995, the Centers for Disease Control and Prevention (CDC) has submitted the information collection request titled “Colorectal Cancer Control Program (CRCCP) Monitoring Activities” to the Office of Management and Budget (OMB) for review and approval. CDC previously published a “Proposed Data Collection Submitted for Public Comment and Recommendations” notice on December 22, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Colorectal Cancer Control Program (CRCCP) Monitoring Activities (OMB Control No. 0920-1074)—Reinstatement—National Center for Chronic Disease Prevention and Health Promotion (NCCDPHP), Centers for Disease Control and Prevention (CDC).

Background and Brief Description

CDC is requesting a Reinstatement of OMB No. 0920-1074. Colorectal cancer (CRC) is the second leading cause of death from cancer in the United States among cancers that affect both men and women. There is substantial evidence that CRC screening reduces the incidence of and death from the disease. Screening for CRC can detect disease early when treatment is more effective, and prevent cancer by finding and removing precancerous polyps. Of individuals diagnosed with early stage CRC, more than 90% live five or more years. To reduce CRC morbidity, mortality, and associated costs, use of CRC screening tests must be increased among age-eligible adults with the lowest CRC screening rates.

The purpose of the Colorectal Cancer Control Program (CRCCP) is to partner with health systems and their individual primary care clinics to implement evidence-based interventions (EBIs) to increase CRC screening among defined populations of adults ages 50-75 that have CRC screening rates lower than the national, regional, or local rate. In 2020, CDC issued the funding opportunity, Public Health and Health System Partnerships to Increase Colorectal Cancer Screening in Clinical Settings (DP20-2002), a five-year cooperative agreement to increase CRC screening among defined populations of adults ages 50-75 that have CRC screening rates lower than the national, regional, or local rate. DP20-2002 funds recipients to partner with health systems and their primary care clinics to implement multiple EBIs, partner with organizations to support implementation of EBIs in those clinics, and collect high-quality clinic-level data to monitor EBI implementation and assess screening rate changes.

CDC proposes information collection using three data collection tools: the Annual Awardee Survey, Clinic-Level Data Collection Instrument, and Quarterly Program Update.

The Annual Awardee Survey is administered once per year and assesses: program management, clinic readiness assessment activities, data management, technical assistance (TA) needs, partnerships, and the effect of COVID-19 on CRC implementation. The Clinic-Level Information Collection Instrument is administered three months following each program year end and assesses: health system and clinic characteristics; program reach; CRC screening practices and outcomes; clinics' quality improvement and monitoring activities; EBI implementation, and additional factors that affect EBI implementation over time. The Quarterly Program Update is administered in the month following each program quarter (i.e., October, January, April, July) and collects standardized recipient-level information on aspects of program management, including: quarterly program expenditures, current staff vacancies, program successes and challenges, current TA needs, and the effect of COVID-19 on CRCCP implementation at the recipient level. These data are collected quarterly to facilitate rapid reporting of programmatic information to support CDC program consultants in providing tailored and meaningful TA.

This information collection enables CDC to gauge progress in meeting CRCCP program goals and monitor implementation activities, evaluate outcomes, and identify recipients' TA needs. In addition, data collected will inform program improvement and help identify successful activities that need to be maintained, replicated, or expanded. OMB approval is requested for three years. The total estimated annualized burden is 760 hours. There is no cost to respondents other than their time to participate.

Estimated Annualized Burden Hours
Type of respondent | Form name | Number of respondents | Number of responses per respondent | Average burden per response (in hr)
CRCCP Recipients | CRCCP Annual Awardee Survey | 35 | 1 | 15/60
| CRCCP Clinic-level Information Collection Instrument | 35 | 24 | 50/60
| CRCCP Quarterly Program Update | 35 | 4 | 22/60

Jeffrey M. Zirger,
Lead, Information Collection Review Office, Office of Public Health Ethics and Regulations, Office of Science, Centers for Disease Control and Prevention.

[FR Doc. 2024-09145 Filed 4-26-24; 8:45 am]

BILLING CODE 4163-18-P